DEPARTMENT OF COMMERCE

National Oceanic and Atmospheric Administration

[I.D. 071106G]

RIN 0648-AT94

Fisheries in the Western Pacific; Western Pacific Bottomfish and Seamount Groundfish Fisheries; Guam Bottomfish Management Measures

AGENCY: National Marine Fisheries Service (NMFS), National Oceanic and Atmospheric Administration (NOAA), Commerce.

ACTION: Announcement of availability of FMP amendment; request for comments.

SUMMARY: Amendment 9 to the Fishery Management Plan for Bottomfish and Seamount Groundfish Fisheries of the Western Pacific Region (FMP Amendment 9) would prohibit large vessels, i.e., those 50 ft (15.2 m) or longer, from fishing for bottomfish in Federal waters within 50 nm (92.6 km) around Guam, and would establish Federal permitting and reporting requirements for these large bottomfish fishing vessels. The amendment is intended to maintain viable bottomfish catch rates by small vessels in the fishery, to sustain participation by smaller vessels in the fishery, to maintain traditional patterns of the bottomfish supply to local Guam markets, and to provide for the collection of adequate fishery information for effective management.

DATES: Comments on the amendment must be received by September 22, 2006.

ADDRESSES: Comments on FMP Amendment 9, identified by 0648-AT94, should be sent to any of the following addresses:

• E-mail: AT94Guam@noaa.gov. Include in the subject line of the e-mail comment the following document identifier “AT94 Guam Bottomfish.” Comments sent via e-mail, including all attachments, must not exceed a 10 megabyte file size.

• Federal e-Rulemaking portal: www.regulations.gov. Follow the instructions for submitting comments.

• Mail: William L. Robinson, Regional Administrator, NMFS, Pacific Islands Region (PIR), 1601 Kapiolani Boulevard, Suite 1110, Honolulu, HI 96814-4700.

Copies of the FMP, Amendment 9, the Environmental Assessment (EA), Regulatory Impact Review (RIR), and Initial Regulatory Flexibility Analysis (IRFA) may be obtained from William L. Robinson.

FOR FURTHER INFORMATION CONTACT: Robert Harman, NMFS PIR, 808-944-2271.

SUPPLEMENTARY INFORMATION: FMP Amendment 9, developed by the WPFMC, has been submitted to NMFS for review under the Magnuson-Stevens Fishery Conservation and Management Act, 16 U.S.C. 1801 et seq. (Magnuson-Stevens Act). This notice announces that the amendment is available for public review and comment for 60 days. NMFS will consider public comments received during the comment period in determining whether to approve, partially approve, or disapprove FMP Amendment 9.

The bottomfish fishery operating in Federal waters around Guam is managed under the Fishery Management Plan for Bottomfish and Seamount Groundfish Fisheries of the Western Pacific Region (FMP), but aside from restrictions on the use of certain destructive fishing methods that apply to the bottomfish fisheries throughout the western Pacific, the Guam fishery is mostly unregulated at this time. Potential developments in the fishery, however, led the WPFMC to prepare FMP Amendment 9.

The Guam-based small-boat bottomfish fishery is a mix of subsistence, recreational, and limited commercial fishing, particularly in the summer months when weather conditions are calm. There are currently three primary sources of fisheries-dependent fisheries data for Guam: a boat-based and shoreline-based creel surveys conducted by staff of the Division of Aquatic and Wildlife Resources (DAWR), a voluntary fish dealer trip ticket invoice system coordinated by DAWR staff, and a voluntary data collection system established and coordinated by the Guam Fishermen's Cooperative with data submitted to and processed by DAWR staff. Based on the current FMP reporting and management requirements, these data collection programs can provide adequate information about Guam's inshore bottomfish fisheries that are conducted by smaller vessels. Thus, the amendment does not intend to establish additional data collection requirements on smaller vessels.

There is a potential component of Guam's bottomfish fishery in which fishermen in relatively large vessels (i.e., greater than 50 ft or 15.2 m in length) target deep-slope fish species, particularly onaga (longtail red snapper, or flame snapper, Etelis coruscans). This fishery is currently inactive, but several vessels have operated in the past. The fish were caught on offshore banks in Federal waters, landed at Guam's commercial port, and rather than entering the local market, exported by air to foreign markets, especially Japan. The activity occurred on some or all of Guam's southern banks, including Galvez, 11-Mile, Santa Rosa, White Tuna, and Baby Banks. Most of the vessels fishing on these southern banks targeted the shallow-water bottomfish complex, but some targeted the deep-water complex. The banks to the north of Guam, including Rota Bank, and far to the west of Guam, including Bank A, appear not to have been fished at this time.

The potential for large-vessel bottomfish fishing activity to resume on the offshore banks prompted concerns about fishery information being inadequate for effective management, the potential for small-vessel catch rates to decline to non-viable levels, threats to sustained participation by smaller-vessels in the fishery, and disruptions to traditional patterns of supply of bottomfish products to the local market.

Thus, FMP Amendment 9 has the following objectives:

• To ensure that adequate information is routinely collected for the large-vessel, export-oriented bottomfish fishery in Federal waters around Guam;

• To maintain adequate opportunities for small-scale commercial, recreational, and subsistence bottomfish fishermen in Federal waters around Guam;

• To provide for sustained community participation by smaller vessels in the Guam bottomfish fishery; and

• To encourage consistent availability of fresh, locally caught deepwater bottomfish products to Guam consumers.

After considering a wide range of management options, including many options suggested by the public during a public scoping process, the WPFMC recommended several measures that would be established under FMP Amendment 9, including the following:

• A Federal fishing permit that would be required for large vessels, i.e., 50 ft (15.2 m) or greater in length, to fish for bottomfish in authorized areas around Guam;

• A Federal fishing logbook, in which the large bottomfish vessels would be required to record their daily catch and effort information to be supplied to NMFS; and

• A bottomfish area closure, encompassing Federal waters within 50 nm (92.6 km) around Guam, in which large vessels targeting bottomfish would be prohibited from fishing.

NMFS seeks public comment on FMP Amendment 9, which must be received by September 22, 2006, to be considered by NMFS when it decides whether to approve, partially approve, or disapprove the amendment. NMFS will review FMP Amendment 9 to determine whether it complies with the Magnuson-Stevens Act, the National Standards of the Magnuson-Stevens Act, and other applicable law. In the near future, NMFS intends to publish in the Federal Register a proposed rule to implement FMP Amendment 9.

Dated: July 18, 2006.
Alan D. Risenhoover,
Acting Director, Office of Sustainable Fisheries, National Marine Fisheries Service.

[FR Doc. E6-11752 Filed 7-21-06; 8:45 am]

BILLING CODE 3510-22-S